DEPARTMENT OF COMMERCE

International Trade Administration

[A-428-850]

Thermal Paper From the Federal Republic of Germany: Final Results of Antidumping Duty Administrative Review; 2022-2023

AGENCY: Enforcement and Compliance, International Trade Administration, Department of Commerce.

SUMMARY: The U.S. Department of Commerce (Commerce) determines that thermal paper from the Federal Republic of Germany (Germany) was not sold in the United States at less than normal value during the period of review (POR) November 1, 2022, through October 31, 2023.

DATES: Applicable August 27, 2025.

FOR FURTHER INFORMATION CONTACT: Anne Entz, AD/CVD Operations, Office IX, Enforcement and Compliance, International Trade Administration, U.S. Department of Commerce, 1401 Constitution Avenue NW, Washington, DC 20230; telephone: (202) 482-3845.

SUPPLEMENTARY INFORMATION:

Background

On December 13, 2024, Commerce published the Preliminary Results and invited comments from interested parties.¹ On January 13, 2025, Domtar Corporation and Appvion, LLC (collectively, the petitioners) submitted a case brief.² On the same day, Matra Americas LLC and Matra Atlantic GmbH (collectively, Matra) and Koehler Paper SE and Koehler Kehl GmbH (collectively, Koehler) submitted letters in lieu of a case brief.³ On January 21, 2025, Matra and Koehler filed a joint rebuttal brief.⁴

¹ See Thermal Paper from Germany: Preliminary Results and Rescission, In Part, of Antidumping Duty Administrative Review; 2022-2023, 89 FR 100961 (December 13, 2024) (Preliminary Results), and accompanying Preliminary Decision Memorandum.

² See Petitioners' Letter, “Petitioners' Case Brief,” dated January 13, 2025.

³ See Matra's Letter, “Matra Letter In Lieu of Case Brief,” dated January 13, 2025; see also Koehler's Letter, “Koehler Letter In Lieu of Case Brief,” dated January 13, 2025.

⁴ See Matra and Koehler's Letter, “Joint Rebuttal Brief of Koehler Paper SE and Matra Americas, LLC and Matra Atlantic GmbH,” dated January 21, 2025.

On June 30, 2025, Commerce extended the deadline for the final results until September 8, 2025.⁵ On July 18, 2025, Commerce issued a post-preliminary analysis in this administrative review and invited interested parties to comment.⁶ We received no comments from interested parties.

⁵ See Memorandum, “Extension of Deadline for Final Results of Antidumping Duty Administrative Review,” dated June 30, 2025.

⁶ See Memorandum, “Post-Preliminary Analysis for the 2022-2023 Antidumping Duty Administrative Review of Thermal Paper from Germany,” dated July 18, 2025; see also Memorandum, “Establishment of Briefing Schedule for Post-Preliminary Results,” dated July 21, 2025.

For a complete description of the events that occurred since the Preliminary Results, see the Issues and Decision Memorandum.⁷ Commerce conducted this administrative review in accordance with section 751 of the Tariff Act of 1930, as amended (the Act).

⁷ See Memorandum, “Issues and Decision Memorandum for the Final Results of the Antidumping Duty Administrative Review of Thermal Paper from the Federal Republic of Germany; 2022-2023,” dated concurrently with, and hereby adopted by, this notice (Issues and Decision Memorandum).

Scope of the Order ⁸

⁸ See Thermal Paper from Germany, Japan, the Republic of Korea, and Spain: Antidumping Duty Orders, 86 FR 66284 (November 22, 2021) (Order).

The products subject to the Order are thermal paper from Germany. For a complete description of the scope of the Order, see the Issues and Decision Memorandum.

Analysis of Comments Received

All issues raised in the case and rebuttal briefs are listed in the appendix to this notice and addressed in the Issues and Decision Memorandum. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding our Preliminary Results, we made no changes to the weighted-average dumping margin calculations for Koehler. For further discussion, see the Issues and Decision Memorandum.

Final Results of Review

For these final results, we determine the following estimated weighted-average dumping margin exists for the period November 1, 2022, through October 31, 2023:

Producer or exporter | Weighted- average dumping margin (percent)
Koehler Paper SE; Koehler Kehl GmbH | 0.00

Disclosure

Normally, Commerce discloses to interested parties the calculations of the final results of an administrative review within five days of a public announcement or, if there is no public announcement, within five days of the date of publication of the notice of final results in the Federal Register, in accordance with 19 CFR 351.224(b). However, because we made no changes from the Preliminary Results, there are no new calculations to disclose.

Assessment Rates

Pursuant to section 751(a)(2)(C) of the Act and 19 CFR 351.212(b)(1), Commerce has determined, and U.S. Customs and Border Protection (CBP) shall assess, antidumping duties on all appropriate entries of subject merchandise in accordance with the final results of this review. Because Koehler's weighted-average dumping margin is zero, we will instruct CBP to liquidate the appropriate entries without regard to antidumping duties.

Commerce's “automatic assessment” practice will apply to entries of subject merchandise during the POR produced by Koehler for which it did not know that the merchandise it sold to an intermediary (e.g., a reseller, trading company, or exporter) was destined for the United States. In such instances, we will instruct CBP to liquidate unreviewed entries at the all-others rate established in the less-than-fair-value (LTFV) investigation if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rate for the company listed above will be equal to the weighted-average dumping margin that is established in the final results of this review (2) for previously investigated or reviewed companies not listed above, the cash deposit rate will continue to be the company-specific rate published for the most recently completed segment of this proceeding in which the company participated; (3) if the exporter is not a firm covered in this review, a prior review, or the LTFV investigation, but the producer is, the cash deposit rate will be the cash deposit rate established for the most recently completed segment for the producer of the subject merchandise; and (4) the cash deposit rate for all other producers or exporters will continue to be 2.90 percent, the all-others rate established in the LTFV investigation.⁹ These deposit requirements, when imposed, shall remain in effect until further notice.

⁹ See Order, 79 FR at 30816.

Administrative Protective Order (APO)

This notice serves as the only reminder to parties subject to an APO of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification to Interested Parties

This notice is issued and published in accordance with sections 751(a)(1) and 777(i)(1) of the Act.

Dated: August 21, 2025.
Abdelali Elouaradia,
Deputy Assistant Secretary for Enforcement and Compliance.

Appendix

List of Topics Discussed in the Issues and Decision Memorandum

I. Summary

II. Background

III. Scope of the Order

IV. Duty Absorption

V. Discussion of the Issues

Comment 1: Whether Commerce Should Apply Facts Available to Koehler's Reporting of U.S. Sales

Comment 2: Whether Commerce Should Attribute Accrued Interest on Unpaid Antidumping Duties to Matra Americas LLC's U.S. Sales

Comment 3: Revisions to Final Customs Instructions

VI. Recommendation

[FR Doc. 2025-16368 Filed 8-26-25; 8:45 am]

BILLING CODE 3510-DS-P